DEPARTMENT OF ENERGY

Federal Energy Regulatory Commission

Combined Notice of Filings #2

Take notice that the Commission received the following electric rate filings:

Docket Numbers: ER20-1683-002.

Applicants: Wabash Valley Power Association, Inc.

Description: Compliance filing: Compliance Filing of Amended Distributed Generation Policy D-11 to be effective 12/6/2020.

Filed Date: 10/8/20.

Accession Number: 20201008-5147.

Comments Due: 5 p.m. ET 10/29/20.

Docket Numbers: ER20-2696-000.

Applicants: VESI Pomona Energy Storage, Inc.

Description: Supplement to August 19, 2020 VESI Pomona Energy Storage, Inc. tariff filing.

Filed Date: 10/2/20.

Accession Number: 20201002-5234.

Comments Due: 5 p.m. ET 10/23/20.

Docket Numbers: ER20-2938-001.

Applicants: PJM Interconnection, L.L.C.

Description: Tariff Amendment: Amendment to ER20-2938-000; IISA No. 5627; Queue No. AD2-180 to be effective 3/17/2020.

Filed Date: 10/8/20.

Accession Number: 20201008-5137.

Comments Due: 5 p.m. ET 10/29/20.

Docket Numbers: ER21-66-000.

Applicants: Wolverine Power Supply Cooperative, Inc.

Description: § 205(d) Rate Filing: Request for Change in Rates to Distribution Cooperative Member-Owners to be effective 1/1/2021.

Filed Date: 10/8/20.

Accession Number: 20201008-5051.

Comments Due: 5 p.m. ET 10/29/20.

Docket Numbers: ER21-67-000.

Applicants: Basin Electric Power Cooperative.

Description: § 205(d) Rate Filing: Basin Electric Submission of Revised Wholesale Power Contract to be effective 9/15/2020.

Filed Date: 10/8/20.

Accession Number: 20201008-5067.

Comments Due: 5 p.m. ET 10/29/20.

Docket Numbers: ER21-68-000.

Applicants: PJM Interconnection, L.L.C.

Description: § 205(d) Rate Filing: Original WMPA, Service Agreement No. 5821; Queue No. AF2-101 to be effective 9/10/2020.

Filed Date: 10/8/20.

Accession Number: 20201008-5075.

Comments Due: 5 p.m. ET 10/29/20.

Docket Numbers: ER21-69-000.

Applicants: American Electric Power Service Corporation, Southwest Power Pool, Inc.

Description: § 205(d) Rate Filing: AEP on behalf of affilate AEP West Op Cos revised depreciation rates to be effective 1/1/2020.

Filed Date: 10/8/20.

Accession Number: 20201008-5085.

Comments Due: 5 p.m. ET 10/29/20.

Docket Numbers: ER21-70-000.

Applicants: Wilderness Line Holdings, LLC.

Description: Renewed Request for Waiver of Order No. 1000 Requirements of Wilderness Line Holdings, LLC.

Filed Date: 10/8/20.

Accession Number: 20201008-5089.

Comments Due: 5 p.m. ET 10/29/20.

Docket Numbers: ER21-71-000.

Applicants: Florida Power & Light Company.

Description: § 205(d) Rate Filing: FPL & Seminole Second Revised NITSA RS No. 162 to be effective 12/7/2020.

Filed Date: 10/8/20.

Accession Number: 20201008-5090.

Comments Due: 5 p.m. ET 10/29/20.

Docket Numbers: ER21-72-000.

Applicants: Indiana Michigan Power Company.

Description: § 205(d) Rate Filing: I&M-Wabash Valley Power Agency Operations Agreement (Meridian 345) to be effective1/1/2021.

Filed Date: 10/8/20.

Accession Number: 20201008-5091.

Comments Due: 5 p.m. ET 10/29/20.

Docket Numbers: ER21-73-000.

Applicants: Southwestern Public Service Company.

Description: § 205(d) Rate Filing: Sagamore Wind Project to be effective 1/1/2020.

Filed Date: 10/8/20.

Accession Number: 20201008-5092.

Comments Due: 5 p.m. ET 10/29/20.

Docket Numbers: ER21-74-000.

Applicants: Florida Power & Light Company.

Description: Tariff Cancellation: FPL Notice of Cancellation of SA No. 327 to be effective 10/9/2020.

Filed Date: 10/8/20.

Accession Number: 20201008-5112.

Comments Due: 5 p.m. ET 10/29/20.

Docket Numbers: ER21-75-000.

Applicants: Duke Energy Florida, LLC.

Description: § 205(d) Rate Filing: DEF-Chattahoochee—Amended and Restated NITSA SA-154 to be effective 1/1/2021.

Filed Date: 10/8/20.

Accession Number: 20201008-5141.

Comments Due: 5 p.m. ET 10/29/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 8, 2020.
Nathaniel J. Davis, Sr.,
Deputy Secretary.

[FR Doc. 2020-22776 Filed 10-14-20; 8:45 am]

BILLING CODE 6717-01-P